DEPARTMENT OF TRANSPORTATION

Federal Motor Carrier Safety Administration

[Docket ID FMCSA-2009-0086]

Qualification of Drivers; Exemption Applications; Vision

AGENCY: Federal Motor Carrier Safety Administration (FMCSA), DOT.

ACTION: Notice of applications for exemptions; request for comments.

SUMMARY: FMCSA announces receipt of applications from 22 individuals for exemption from the vision requirement in the Federal Motor Carrier Safety Regulations. If granted, the exemptions would enable these individuals to qualify as drivers of commercial motor vehicles (CMVs) in interstate commerce without meeting the Federal vision standard.

DATES: Comments must be received on or before May 28, 2009.

ADDRESSES: You may submit comments bearing the Federal Docket Management System (FDMS) Docket ID FMCSA-2009-0086 using any of the following methods:

• Federal eRulemaking Portal: Go to http://www.regulations.gov. Follow the on-line instructions for submitting comments.

• Mail: Docket Management Facility; U.S. Department of Transportation, 1200 New Jersey Avenue, SE., West Building Ground Floor, Room W12-140, Washington, DC 20590-0001.

• Hand Delivery: West Building Ground Floor, Room W12-140, 1200 New Jersey Avenue, SE., Washington, DC, between 9 a.m. and 5 p.m., Monday through Friday, except Federal Holidays.

• Fax: 1-202-493-2251.

Each submission must include the Agency name and the docket ID for this Notice. Note that DOT posts all comments received without change to http://www.regulations.gov, including any personal information included in a comment. Please see the Privacy Act heading below.

Docket: For access to the docket to read background documents or comments, go to http://www.regulations.gov at any time or Room W12-140 on the ground level of the West Building, 1200 New Jersey Avenue, SE., Washington, DC, between 9 a.m. and 5 p.m., Monday through Friday, except Federal holidays. The FDMS is available 24 hours each day, 365 days each year. If you want acknowledgment that we received your comments, please include a self-addressed, stamped envelope or postcard or print the acknowledgement page that appears after submitting comments on-line.

Privacy Act: Anyone may search the electronic form of all comments received into any of our dockets by the name of the individual submitting the comment (or of the person signing the comment, if submitted on behalf of an association, business, labor union, etc.). You may review the DOT's complete Privacy Act Statement in the Federal Register published on April 11, 2000 (65 FR 19476). This information is also available at http://Docketsinfo.dot.gov.

FOR FURTHER INFORMATION CONTACT: Dr. Mary D. Gunnels, Director, Medical Programs, (202) 366-4001, fmcsamedical@dot.gov, FMCSA, Department of Transportation, 1200 New Jersey Avenue, SE., Room W64-224, Washington, DC 20590-0001. Office hours are from 8:30 a.m. to 5 p.m., Monday through Friday, except Federal holidays.

SUPPLEMENTARY INFORMATION:

Background

Under 49 U.S.C. 31136(e) and 31315, FMCSA may grant an exemption for a 2-year period if it finds “such exemption would likely achieve a level of safety that is equivalent to, or greater than, the level that would be achieved absent such exemption.” FMCSA can renew exemptions at the end of each 2-year period. The 22 individuals listed in this notice each have requested an exemption from the vision requirement in 49 CFR 391.41(b)(10), which applies to drivers of CMVs in interstate commerce. Accordingly, the Agency will evaluate the qualifications of each applicant to determine whether granting the exemption will achieve the required level of safety mandated by statute.

Qualifications of Applicants

Michael D. Abel

Mr. Abel, age 54, has an enculeation of his right eye due to a ruptured globe sustained in 2001. The visual acuity in his left eye is 20/15. Following an examination in 2008, his ophthalmologist noted, “In my opinion, Mr. Abel has sufficient vision to perform the driving tasks required to operate a commercial vehicle.” Mr. Abel reported that he has driven tractor-trailer combinations for 15 years, accumulating 750,000 miles. He holds a Class A CDL from Nebraska. His driving record for the last 3 years shows no crashes and one conviction for a moving violation, speeding in a CMV. He exceeded the speed limit by 10 mph.

Andre G. Burns

Mr. Burns, 42, has complete loss of vision in his right eye due to a traumatic injury sustained in 1971. The best corrected visual acuity in his left eye is 20/15. Following an examination in 2008, his ophthalmologist noted, “Based upon this information and my medical evaluation, it is my professional opinion that Mr. Burns has an exemplary driving record and has sufficient central and peripheral vision to operate a commercial vehicle.” Mr. Burns reported that he has driven straight trucks for 5 years, accumulating 5,000 miles, tractor-trailer combinations for 6 years, accumulating 450,000 miles. He holds a Class A CDL from Texas. His driving record for the last 3 years shows no crashes and no convictions for moving violations in a CMV.

Paul M. Christina

Mr. Christina, 51, has had amblyopia in his right eye since birth. The best corrected visual acuity in his right eye is 20/80 and in his left eye, 20/20. Following an examination in 2008, his optometrist noted, “I believe Mr. Christina possesses adequate vision to perform the driving tasks required to operate a commercial vehicle.” Mr. Christina reported that he has driven straight trucks for 20 years, accumulating 1.6 million miles. He holds a Class C operator's license from Pennsylvania.

His driving record for the last 3 years shows no crashes and no convictions for moving violations in a CMV.

Harold H. Cunning

Mr. Cunning, 77, has a prosthetic left eye due to a traumatic injury sustained in 1953. The best corrected visual acuity in his right eye is 20/20. Following an examination in 2008, his optometrist noted, “It is my medical opinion that Mr. Cunning has sufficient vision to operate a commercial vehicle.” Mr. Cunning reported that he has driven straight trucks for 60 years, accumulating 1.1 million miles, tractor-trailer combinations for 58 years, accumulating 290,000 miles. He holds a Class A CDL from Illinois. His driving record for the last 3 years shows no crashes and no convictions for moving violations in a CMV.

Kenneth W. Dunn

Mr. Dunn, 41, has had amblyopia in his right eye since childhood. The visual acuity in his right eye is 20/400 and in his left eye, 20/20. Following an examination in 2008, his ophthalmologist noted, “He has sufficient vision to perform the driving task to operate a commercial vehicle.” Mr. Dunn reported that he has driven tractor-trailer combinations for 3 years, accumulating 360,000 miles. He holds a Class A CDL from Tennessee. His driving record for the last 3 years shows no crashes and no convictions for moving violations in a CMV.

Thomas F. Ethier

Mr. Ethier, 56, has complete loss of vision in his left eye due to a traumatic injury sustained in 1956. The visual acuity in his right eye is 20/20. Following an examination in 2009, his optometrist noted, “His uncorrected visual acuity of the right eye is 20/20 and the field of vision of the right eye is 130 degrees in the horizontal. His field of vision exceeds 120 degrees as required, and therefore he is visually qualified to operate a commercial vehicle.” Mr. Ethier reported that he has driven straight trucks for 21 years, accumulating 449,988 miles and tractor-trailer combinations for 28 years accumulating 2.1 million miles. He holds a Class A CDL from Massachusetts. His driving record for the last 3 years shows no crashes and no convictions for moving violations in a CMV.

Johnny K. Hiatt

Mr. Hiatt, 53, has a prosthetic right eye due to a traumatic injury sustained in 1969. The best corrected visual acuity in his left eye is 20/20. Following an examination in 2008, his ophthalmologist noted, “It is my medical opinion that he has sufficient vision to perform the driving task required to operate a commercial vehicle.” Mr. Hiatt reported that he has driven straight trucks for 17 years, accumulating 170,000 miles. He holds a Class A CDL from North Carolina. His driving record for the last 3 years shows no crashes and no convictions for moving violations in a CMV.

Richard S. Hoffman

Mr. Hoffman, 47, has a corneal scar in his left eye due to a traumatic injury sustained in 1971. The visual acuity in his right eye is 20/20 and in his left eye, 20/60. Following an examination in 2009, his ophthalmologist noted, “It is my medical opinion, the patient has sufficient vision to perform the driving tasks required to operate a commercial vehicle.” Mr. Hoffman reported that he has driven straight trucks for 18 years, accumulating 186,300 miles. He holds a Class D operator's license from Idaho. His driving record for the last 3 years shows no crashes and no convictions for moving violations in a CMV.

Perry D. Jensen

Mr. Jensen, 48, has had amblyopia in his left eye since birth. The best corrected visual acuity in his right eye is 20/20 and in his left eye, 20/200. Following an examination in 2009, his ophthalmologist noted, “Perry has sufficient vision to perform the driving tasks required to operate a commercial vehicle.” Mr. Jensen reported that he has driven straight trucks for 30 years, accumulating 600,000 miles and tractor-trailer combinations for 30 years, accumulating 150,000 miles. He holds a Class A CDL from Wisconsin. His driving record for the last 3 years shows no crashes and no convictions for moving violations in a CMV.

Caleb T. Kass

Mr. Kass, 27, has complete loss of vision in his left eye due to a traumatic injury sustained in 1999. The best corrected visual acuity in his right eye is 20/20. Following an examination in 2008, his optometrist noted, “In my medical opinion, Caleb Kass possesses sufficient vision to perform the driving tasks required to operate a commercial vehicle.” Mr. Kass reported that he has driven straight trucks for 6 years, accumulating 78,000 miles. He holds a Class C CDL license from Illinois. His driving record for the last 3 years shows no crashes and no convictions for moving violations in a CMV.

Craig R. Martin

Mr. Martin, 47, has loss of vision in his right eye due to a traumatic injury sustained in 2000. The best corrected visual acuity in his right eye is 20/400 and in his left eye, 20/20. Following an examination in 2009, his optometrist noted, “Based on my assessment of his visual system; eye health and vision would seem to be sufficient for operating a commercial vehicle.” Mr. Martin reported that he has driven tractor-trailer combinations for 10 years, accumulating 1 million miles. He holds a Class A CDL license from Texas. His driving record for the last 3 years shows no crashes and no convictions for moving violations in a CMV.

Bruce McCabe

Mr. McCabe, 64, has had optic neuropathy in his right eye since 2002. The best corrected visual acuity in his right eye is hand motion vision and in his left eye, 20/20. Following an examination in 2008, his ophthalmologist noted, “In my medical opinion, he has sufficient vision to perform driving tasks to operate a commercial vehicle.” Mr. McCabe reported that he has driven straight trucks for 5 years, accumulating 50,000 miles and tractor-trailer combinations for 29 years, accumulating 2.9 million miles. He holds a Class A CDL license from Arizona. His driving record for the last 3 years shows no crashes and no convictions for moving violations in a CMV.

Jeffrey M. Mueller

Mr. Mueller, 49, has optic neuropathy in his left eye due to sarcoid since 1999. The best corrected visual acuity in his right eye is 20/20 and in his left eye, 20/70. Following an examination in 2008, his optometrist noted, “I agree with Dr. Whitaker that Mr. Mueller has sufficient vision to perform the driving tasks required to operate a commercial vehicle.” Mr. Mueller reported that he has driven tractor-trailer combinations for 20 years, accumulating 2.4 million miles. He holds a Class A CDL from Missouri. His driving record for the last 3 years shows no crashes and one conviction for a moving violation, speeding in a CMV. He exceeded the speed limit by 13 mph.

George M. Nelson

Mr. Nelson, 42, has had a prosthetic left eye shortly after birth. The visual acuity in his right eye is 20/15. Following an examination in 2008, his optometrist noted, “In my medical opinion, the above patient has sufficient vision to perform the driving tasks to operate a commercial vehicle.” Mr. Nelson reported that he has driven straight trucks for 15 years, accumulating 150,000 miles and tractor-trailer combinations for 22 years, accumulating 2.2 million miles. He holds a Class A CDL license from Ohio. His driving record for the last 3 years shows no crashes and one conviction for a moving violation in a CMV. He exceeded the speed limit by 8 mph.

Robert D. Porter

Mr. Porter, 49, has loss of vision in his right eye due to a traumatic injury sustained in 1991. The best corrected visual acuity in his right eye is 20/200 and in his left eye, 20/20. Following an examination in 2008, his optometrist noted, “In my medical opinion, Robert has sufficient vision to perform the driving tasks required to operate a commercial vehicle.” Mr. Porter reported that he has driven straight trucks for 31 years, accumulating 155,000 miles and tractor-trailer combinations for 31 years, accumulating 1.7 million miles. He holds a Class C operator's license from California. His driving record for the last 3 years shows no crashes and no convictions for moving violations in a CMV.

Joseph E. Pfaff

Mr. Pfaff, 32, has had amblyopia in his right eye since birth. The best corrected visual acuity in his right eye is 20/70 and in his left eye, 20/20. Following an examination in 2009, his optometrist noted, “Patient does have sufficient vision to operate commercial vehicles.” Mr. Pfaff reported that he has driven straight trucks for 13 years, accumulating 13,000 miles and tractor-trailer combinations for 13 years, accumulating 13,000 miles. He holds a Class A CDL from Illinois. His driving record for the last 3 years shows no crashes and no convictions for moving violations in a CMV.

Cecil R. Rhodes

Mr. Rhodes, 59, has loss of vision in his left eye since 2001 due to retinal degeneration. The best corrected visual acuity in his right eye is 20/40 and in his left eye, 20/50. Following an examination in 2008, his optometrist noted, “I feel in my medical opinion he has sufficient vision to perform his driving tasks for a commercial vehicle.” Mr. Rhodes reported that he has driven straight trucks for 3 years, accumulating 6,000 miles, tractor-trailer combinations for 28 years, accumulating 1 million miles. He holds a Class A CDL from Ohio. His driving record for the last 3 years shows one crash and one conviction for speeding in a CMV. He exceeded the speed limit by 14 mph.

William A. Rister

Mr. Rister, 58, has had amblyopia in his left eye since childhood. The best corrected visual acuity in his right eye is 20/20 and in his left eye, 20/50. Following an examination in 2008, his ophthalmologist noted, “It is my opinion that Mr. Rister sufficient vision to perform the driving tasks required to operate a commercial vehicle.” Mr. Rister reported that he has driven tractor-trailer combinations for 13 years, accumulating 1.3 million miles. He holds a Class A CDL from California. His driving record for the last 3 years shows no crashes and no convictions for moving violations in a CMV.

Billy D. Robertson

Mr. Robertson, 71, has loss of vision in his right eye due to a traumatic injury sustained in 1968. The best corrected visual acuity in his right eye is 20/70 and in his left eye, 20/20. Following an examination in 2008, his ophthalmologist noted, “In my medical opinion, Mr. Robertson has sufficient vision to perform the driving tasks required to operate a commercial vehicle.” Mr. Robertson reported that he has driven tractor-trailer combinations for 33 years, accumulating 2.6 million miles. He holds a Class A CDL from Alabama. His driving record for the last 3 years shows no crashes and no convictions for moving violations in a CMV.

Jerry G. Sexton

Mr. Sexton, 66, has had a prosthetic left eye from a traumatic injury he sustained in 1962. The best corrected visual acuity in his right eye is 20/20. Following an examination in 2009, his optometrist noted, “In my medical opinion, Mr. Sexton has sufficient vision to perform the driving tasks required to operate a commercial vehicle.” Mr. Sexton reported that he has driven straight trucks for 49 years, accumulating 7.4 million miles. He holds a Class A CDL license from Georgia. His driving record for the last 3 years shows no crashes and no convictions for moving violations in a CMV.

Christopher A. Weidner

Mr. Weidner, 46, has loss of vision in his left eye due to a traumatic injury sustained in 2005. The best corrected visual acuity in his right eye is 20/20 and in his left eye, 20/200. Following an examination in 2009, his ophthalmologist noted, “In my medical opinion, he has sufficient vision to perform his usual driving tasks as a commercial driver.” Mr. Weidner reported that he has driven straight trucks for 20 years, accumulating 60,000 miles, and tractor-trailer combinations for 15 years, accumulating 45,000 miles. He holds a Class A CDL from Connecticut. His driving record for the last 3 years shows no crashes and no convictions for moving violations in a CMV.

Paul A. Wolfe

Mr. Wolfe, 53, has had amblyopia in his left eye since birth. The visual acuity in his right eye is 20/20 and in his left eye, 20/400. Following an examination in 2008, his optometrist noted, “In my opinion, Paul has sufficient vision to perform the driving tasks required to operate a commercial vehicle.” Mr. Wolfe reported that he has driven straight trucks for 7½ years, accumulating 281,250 miles. He holds a Class D operator's license from Ohio. His driving record for the last 3 years shows no crashes and no convictions for moving violations in a CMV.

Request for Comments

In accordance with 49 U.S.C. 31136(e) and 31315, FMCSA requests public comment from all interested persons on the exemption petitions described in this notice. The Agency will consider all comments received before the close of business May 28, 2009. Comments will be available for examination in the docket at the location listed under the ADDRESSES section of this notice. The Agency will file comments received after the comment closing date in the public docket, and will consider them to the extent practicable. In addition to late comments, FMCSA will also continue to file, in the public docket, relevant information that becomes available after the comment closing date. Interested persons should monitor the public docket for new material.

Issued on: April 21, 2009.
Charles A. Horan III,
Acting Associate Administrator for Policy and Program Development.

[FR Doc. E9-9614 Filed 4-27-09; 8:45 am]

BILLING CODE 4910-EX-P